OFFICE OF MANAGEMENT AND BUDGET

Rescissions Proposals Pursuant to the Congressional Budget and Impoundment Control Act of 1974

AGENCY: Executive Office of the President, Office of Management and Budget.

ACTION: Notice of rescissions proposed pursuant to the Congressional Budget and Impoundment Control Act of 1974.

SUMMARY: Pursuant to section 1014(d) of the Congressional Budget and Impoundment Control Act of 1974, enclosed for publication in the Federal Register is a special message from the President reflecting the proposals for rescission under section 1012 of that Act that were transmitted to the Congress for consideration on June 3, 2025. In total, these proposals would rescind $9.4 billion in budget authority. These proposed rescissions affect programs of the Department of State, as well as the Corporation for Public Broadcasting (CPB), the U.S. Agency for International Development (USAID), the U.S. Institute of Peace, and other International Assistance Programs. If enacted, these rescissions would decrease Federal outlays in the affected accounts by the same amount; this would have a commensurate effect on the Federal budget deficit and the national economy, and would result in less borrowing from the Federal Treasury.

DATES: Release Date: June 3, 2025.

ADDRESSES: The rescissions proposal package is available on-line on the OMB home page at: https://www.whitehouse.gov/wp-content/uploads/2025/03/Proposed-Rescissions-of-Budgetary-Resources.pdf.

FOR FURTHER INFORMATION CONTACT: Jason Hoffman, 252 Eisenhower Executive Office Building, Washington, DC 20503, Email address: Jason.M.Hoffman@omb.eop.gov, telephone number: (202) 456-3419. Because of delays in the receipt of regular mail related to security screening, respondents are encouraged to use electronic communications.

Russell T. Vought,
Director.

TO THE CONGRESS OF THE UNITED STATES:

In accordance with section 1012(a) of the Congressional Budget and Impoundment Control Act of 1974 (2 U.S.C. 683(a)), I herewith report 22 rescissions of budget authority, totaling $9.4 billion.

The proposed rescissions affect programs of the Department of State, as well as the Corporation for Public Broadcasting, the U.S. Agency for International Development, the U.S. Institute of Peace, and other International Assistance Programs.

The details of these rescissions are set forth in the enclosed letter from the Director of the Office of Management and Budget.

Donald J. Trump

The White House,

May 28, 2025

The President

The White House

Dear Mr. President:

Submitted for your consideration is a special message that includes rescission proposals for the Department of State, as well as the Corporation for Public Broadcasting (CPB), the U.S. Agency for International Development (USAID), the U.S. Institute of Peace, and other International Assistance Programs.

The Administration is proposing these rescissions of enacted appropriations from both current and past fiscal years (FYs) in accordance with section 1012(a) of the Congressional Budget and Impoundment Control Act of 1974 (2 U.S.C. 683(a)). This special message identifies wasteful and unnecessary spending that is no longer needed for the purposes for which they were appropriated.

This special message emphasizes the need to cut wasteful foreign assistance spending at the Department of State and USAID and through other international assistance programs. These rescissions would eliminate programs that are antithetical to American interests, such as funding the World Health Organization, “family planning” and “reproductive health,” LGBTQI+ activities, “equity” programs, radical Green New Deal-type policies, and color revolutions in hostile places around the world. In addition, Federal spending on CPB subsidizes a public media system that is politically biased and is an unnecessary expense to the taxpayer.

This special message proposes to rescind $9.4 billion in budget authority. If enacted, these rescissions would decrease Federal outlays in the affected accounts by the same amount. This would have a commensurate effect on the Federal budget deficit and the national economy, and would result in less borrowing by the Federal Government.

We look forward to working with the Congress to identify additional opportunities to put the Nation's fiscal house back in order.

Recommendation

I recommend you transmit a special message that includes these rescission proposals to the Congress.

Sincerely,

Russell T. Vought

Director

Enclosure

PROPOSED RESCISSION OF BUDGET AUTHORITY

Report Pursuant to Section 1012 of the Congressional Budget and Impoundment Control Act of 1974 (2 U.S.C. 683)

Rescission proposal no. R25-1

Agency: DEPARTMENT OF STATE

Bureau: International Organizations and Conferences

Account: Contributions to International Organizations (019-1126 2024/2025)

Amount proposed for rescission: $33,008,764

Justification:

This proposal would rescind $33 million of the $1.5 billion appropriated in FY 2024 for the Contributions to International Organizations (CIO) account. The CIO account provides funding for the assessed contributions to the United Nations (UN), UN-affiliated organizations, and various other international organizations. This proposal is consistent with Executive Order 14199, “Withdrawing the United States From and Ending Funding to Certain United Nations Organizations and Reviewing United States Support to All International Organizations,” and rescinds carryover balances from the prior year. The UN has taken advantage of American generosity for too many years. In 2023, the United States paid 22 percent of the entire UN budget, well above our “fair share,” whereas 192 other member states have profited from the American people while voting against American interests and allies. Enacting the rescission would eliminate unnecessary and currently unattributed funding, as the Administration continues to review participation in all other international organizations.

Rescission proposal no. R25-2

Agency: DEPARTMENT OF STATE

Bureau: International Organizations and Conferences

Account: Contributions to International Organizations (019-1126 2025/2025)

Amount proposed for rescission: $168,837,230

Justification:

This proposal would rescind $169 million of the $1.5 billion appropriated in FY 2025 for the Contributions to International Organizations (CIO) account. The CIO account provides funding for the assessed contributions to the United Nations (UN), UN-affiliated organizations, and various other international organizations. This proposal is consistent with Executive Order (E.O.) 14155, “Withdrawing the United States From the World Health Organization,” and E.O. 14199, “Withdrawing the United States From and Ending Funding to Certain United Nations Organizations and Reviewing United States Support to All International Organizations.” Enacting this rescission would eliminate funding to organizations such as the World Health Organization, and to portions of the UN Regular Budget for the UN Human Rights Council and the UN Relief and Works Agency for Palestine Refugees in the Near East.

Rescission proposal no. R25-3

Agency: DEPARTMENT OF STATE

Bureau: International Organizations and Conferences

Account: Contributions for International Peacekeeping Activities (019-1124 2024/2025)

Amount proposed for rescission: $203,328,007

Justification:

This proposal would rescind $203 million of the $1.4 billion appropriated in FY 2024 for the Contributions for International Peacekeeping Activities (CIPA) account. The CIPA account provides payment for the U.S. share of United Nations (UN) peacekeeping assessments. UN peacekeeping has been fraught with waste and abuse, as evidenced by the abject failure of the Lebanon peacekeeping mission to contain Hezbollah and the ongoing sexual exploitation and abuse in the Democratic Republic of the Congo. This rescission would eliminate unattributed balances that have not yet been obligated for these peacekeeping missions. Enacting the rescission is a first step to engaging in strong reforms across the UN.

Rescission proposal no. R25-4

Agency: DEPARTMENT OF STATE

Bureau: International Organizations and Conferences

Account: Contributions for International Peacekeeping Activities (019-1124 2025/2025)

Amount proposed for rescission: $157,906,000

Justification:

This proposal would rescind $158 million of the $1.2 billion appropriated in FY 2025 for the Contributions for International Peacekeeping Activities (CIPA) account. The CIPA account provides payment for the U.S. share of United Nations (UN) peacekeeping assessments. UN peacekeeping has been fraught with waste and abuse, as evidenced by the abject failure of the UN Interim Force in Lebanon's (UNIFIL) mission to contain Hezbollah. Enacting this rescission would specifically eliminate peacekeeping contributions for the UNIFIL mission, and is a first step to engaging in strong reforms across the UN.

Rescission proposal no. R25-5

Agency: DEPARTMENT OF STATE

Bureau: Other

Account: Global Health Programs (019-1031 2025/2026)

Amount proposed for rescission: $500,000,000

Justification:

This proposal would rescind $500 million of the $4 billion appropriated in FY 2025 for Global Health Programs for the U.S. Agency for International Development (USAID), which funds activities related to child and maternal health, HIV/AIDS, and infectious diseases. This proposal would not reduce treatment but would eliminate programs that are antithetical to American interests and worsen the lives of women and children, like “family planning” and “reproductive health,” LGBTQI+ activities, and “equity” programs. This rescission proposal aligns with the Administration's efforts to eliminate wasteful USAID foreign assistance programs. Enacting the rescission would reinstate focus on appropriate health and life spending. This best serves the American taxpayer.

Rescission proposal no. R25-6

Agency: DEPARTMENT OF STATE

Bureau: Other

Account: Global Health Programs (019-1031 2025/2029)

Amount proposed for rescission: $400,000,000

Justification:

This proposal would rescind $400 million of the $6 billion appropriated in FY 2025 for global health programs for the Department of State and implemented by the U.S. Agency for International Development. The Global Health Programs account funds activities related to controlling HIV/AIDS. This proposal would eliminate only those programs that neither provide life-saving treatment nor support American interests. This rescission proposal aligns with the Administration's efforts to eliminate wasteful foreign assistance programs. Enacting the rescission would restore focus on health and life spending. This best serves the American taxpayer.

Rescission proposal no. R25-7

Agency: DEPARTMENT OF STATE

Bureau: Other

Account: Migration and Refugee Assistance (019-1143/X)

Amount proposed for rescission: $800,000,000

Justification:

This proposal would rescind $800 million of the $3.2 billion appropriated in FY 2025 for Migration and Refugee Assistance (MRA). MRA funds the U.S. Refugee Admissions Program and provides overseas humanitarian assistance through the Department of State. These funds support activities that could be more fairly shared with non-U.S. Government donors, providing savings to the U.S. taxpayer. Enacting this rescission would limit spending in this account only to programs that are life-saving or have a clear, direct nexus to U.S. national interests, like repatriations, while incentivizing other donors to step up and do more to respond to humanitarian crises. This best serves the American taxpayer.

Rescission proposal no. R25-8

Agency: DEPARTMENT OF STATE

Bureau: Other

Account: Complex Crises Fund (072-1015/X)

Amount proposed for rescission: $43,000,000

Justification:

This proposal would rescind $43 million of the $55 million appropriated in FY 2025 for the Complex Crises Fund (CCF). CCF is intended to provide assistance that prevents and responds to crises in fragile countries, but this account is duplicative of other existing funding sources. Enacting this rescission would eliminate CCF programs that support activities opposed to American values and are counter to an America First foreign policy. This rescission proposal aligns with the Administration's efforts to eliminate wasteful U.S. Agency for International Development foreign assistance programs and reprioritizes remaining funds for Administration priorities. This best serves the American taxpayer.

Rescission proposal no. R25-9

Agency: DEPARTMENT OF STATE

Bureau: Other

Account: Democracy Fund (019-1121 2025/2026)

Amount proposed for rescission: $83,000,000

Justification:

This proposal would rescind $83 million of the $345 million appropriated in FY 2025 for the Democracy Fund (DF). The DF account is intended to fund democracy promotion activities of the Department of State and U.S. Agency for International Development (USAID). In practice, DF-funded activities support programs that undermine American values, interfere with the sovereignty of other countries, or bankroll corrupt leaders' evasion of their responsibilities to their citizens. Enacting this rescission would eliminate programs inimical to an America First foreign policy, that have conducted censorship and election meddling in foreign countries. This rescission proposal aligns with the Administration's efforts to eliminate wasteful USAID foreign assistance programs and focus remaining funds on priorities that advance American interests. This best serves the American taxpayer.

Rescission proposal no. R25-10

Agency: INTERNATIONAL ASSISTANCE PROGRAMS

Bureau: International Security Assistance

Account: Economic Support Fund (072-1037 2025/2026)

Amount proposed for rescission: $1,650,000,000

Justification:

This proposal would rescind $1.7 billion of the $3.6 billion appropriated in FY 2025 for the Economic Support Fund (ESF). The ESF account is intended to fund assistance programs in countries of strategic importance to the United States to meet economic development needs, but has been used to fund radical gender and climate projects. Enacting this rescission would align with the Administration's ongoing efforts to eliminate unnecessary programming at the U.S. Agency for International Development and refocus remaining resources on activities that align with an America First foreign policy. This approach best serves the American taxpayer.

Rescission proposal no. R25-11

Agency: INTERNATIONAL ASSISTANCE PROGRAMS

Bureau: Multilateral Assistance

Account: Contribution to the Clean Technology Fund (020-0080/X)

Amount proposed for rescission: $125,000,000

Justification:

This proposal would rescind $125 million, the full amount appropriated in FY 2025 for the Contribution to the Clean Technology Fund (CTF). CTF invests in Green New Deal projects in developing countries that do not reflect America's values or put the American people first. Enacting the rescission would eliminate the contribution payment to the CTF that supports climate projects, in alignment with Executive Order 14162, “Putting America First in International Environmental Agreements.” This is the best approach for the American taxpayer.

Rescission proposal no. R25-12

Agency: INTERNATIONAL ASSISTANCE PROGRAMS

Bureau: Multilateral Assistance

Account: International Organizations and Programs (019-1005 2025/2025)

Amount proposed for rescission: $436,920,000

Justification:

This proposal would rescind $437 million, the entire amount appropriated in FY 2025 for International Organizations and Programs (IOP). The IOP account funds voluntary contributions to international organizations and programs, largely to the United Nations (UN). This rescission would eliminate funding for the UN Children's Fund (UNICEF), UN Development Program (UNDP), the Montreal Protocol, the UN Population Fund (UNFPA), among various other organizations. In the past these voluntary contributions have compounded the excessive burden of America's disproportionately high contributions. Enacting this rescission would encourage international organizations to be more efficient, down-scope their sprawling missions, and seek contributions from other member nations and donors, putting American taxpayers first.

Rescission proposal no. R25-13

Agency: INTERNATIONAL ASSISTANCE PROGRAMS

Bureau: Agency for International Development

Account: Development Assistance (072-1021 2025/2026)

Amount proposed for rescission: $2,500,000,000

Justification:

This proposal would rescind $2.5 billion of the $3.9 billion appropriated in FY 2025 for Development Assistance (DA). The DA account is intended to fund programs that work to end extreme poverty and promote resilient, democratic societies, but in practice, many of the DA programs conflict with American values, interfere with the sovereignty of other countries, and bankroll corrupt leaders' evasion of their responsibilities to their citizens, all while providing no clear benefit to Americans. This rescission aligns with the Administration's efforts to eliminate unnecessary development assistance at the U.S. Agency for International Development. Enacting this rescission would align remaining funds with appropriate priorities. This best serves the American taxpayer.

Rescission proposal no. R25-14

Agency: INTERNATIONAL ASSISTANCE PROGRAMS

Bureau: Agency for International Development

Account: Assistance for Europe, Eurasia and Central Asia (072-0306 2025/2026)

Amount proposed for rescission: $460,000,000

Justification:

This proposal would rescind $460 million, the full amount appropriated in FY 2025 for the Assistance for Europe, Eurasia, and Central Asia (AEECA) account. The AEECA account is intended to support primarily former communist countries in the Europe, Eurasia, and Central Asia region with programs focused on economic and political stability. AEECA has become a mechanism for funding wasteful programs, including woke activities like gender and climate programming, which diverge from the targeted goals of the account. This rescission proposal reflects the effort of the Administration to eliminate unnecessary foreign assistance programs. This best serves the American taxpayer.

Rescission proposal no. R25-15

Agency: INTERNATIONAL ASSISTANCE PROGRAMS

Bureau: Agency for International Development

Account: International Disaster Assistance (072-1035/X)

Amount proposed for rescission: $496,000,000

Justification:

This proposal would rescind $496 million of $4 billion appropriated in FY 2025 to the International Disaster Assistance (IDA) account. IDA was intended to provide humanitarian assistance in response to natural disasters and conflicts, and other emergencies around the world. Enacting this rescission would preserve programs that are life-saving or have a clear, direct nexus to U.S. national interests. This rescission proposal aligns with the Administration's efforts to eliminate wasteful U.S. Agency for International Development foreign assistance programs. Enacting this rescission would align remaining funds with President Trump's foreign policy priorities. This best serves the American taxpayer.

Rescission proposal no. R25-16

Agency: INTERNATIONAL ASSISTANCE PROGRAMS

Bureau: Agency for International Development

Account: Operating Expenses (072-1000 2025/2025)

Amount proposed for rescission: $125,000,000

Justification:

This proposal would rescind $125 million of the $1.7 billion appropriated in FY 2025 for the U.S. Agency for International Development (USAID) Operating Expenses account, which funds salaries and benefits and other direct costs for USAID direct hires and staff overseas. Enacting this rescission would align with the Administration's ongoing efforts to eliminate unnecessary programming at USAID. This best serves the American taxpayer.

Rescission proposal no. R25-17

Agency: INTERNATIONAL ASSISTANCE PROGRAMS

Bureau: Agency for International Development

Account: Transition Initiatives (072-1027/X)

Amount proposed for rescission: $57,000,000

Justification:

This proposal would rescind $57 million of the $75 million appropriated in FY 2025 for the Transition Initiatives (TI) account. TI funding targets select priority countries where the U.S. must engage quickly as a contingency response component of U.S. foreign assistance during conflict and political transitions. Many of the policies this program has traditionally supported do not align with an America First foreign policy agenda. This rescission aligns with the Administration's efforts to eliminate wasteful U.S. Agency for International Development foreign assistance programs. Enacting this rescission would align remaining funds with President Trump's foreign policy priorities. This best serves the American taxpayer.

Rescission proposal no. R25-18

Agency: INTERNATIONAL ASSISTANCE PROGRAMS

Bureau: Inter-American Foundation

Account: Inter-American Foundation (164-3100 2025/2026)

Amount proposed for rescission: $27,000,000

Justification:

This proposal would rescind $27 million of the $47 million appropriated in FY 2025 for the Inter-American Foundation (IAF). The IAF provides grants to organizations in Latin America and the Caribbean. IAF funds are wasteful and littered with anti-American activities. This rescission proposal aligns with the Administration's efforts to eliminate wasteful foreign assistance programs. Further, this proposal aligns with Executive Order 14217, “Commencing the Reduction of the Federal Bureaucracy,” which directs that the non-statutory components and functions of IAF shall be eliminated to the maximum extent consistent with applicable law, and that IAF reduce the performance of their statutory functions and associated personnel to the minimum presence and function required by law. This best serves the American taxpayer.

Rescission proposal no. R25-19

Agency: INTERNATIONAL ASSISTANCE PROGRAMS

Bureau: African Development Foundation

Account: United States African Development Foundation (166-0700 2025/2026)

Amount proposed for rescission: $22,000,000

Justification:

This proposal would rescind $22 million of the $45 million appropriated in FY 2025 for the African Development Foundation (ADF). The ADF delivers grants directly to African businesses to support economic growth. These funds are often duplicative of activities managed by other agencies, such as the Department of State. This proposal aligns with Executive Order 14217, “Commencing the Reduction of the Federal Bureaucracy,” which directs that the non-statutory components and functions of ADF shall be eliminated to the maximum extent consistent with applicable law, and that ADF reduce the performance of their statutory functions and associated personnel to the minimum presence and function required by law. This best serves the American taxpayer.

Rescission proposal no. R25-20

Agency: UNITED STATES INSTITUTE OF PEACE

Account: United States Institute of Peace (458-1300 2025/2026)

Amount proposed for rescission: $15,000,000

Justification:

This proposal would rescind $15 million of the $55 million appropriated in FY 2025 for the U.S. Institute of Peace (USIP). This agency funded a variety of conflict mitigation and intervention programs in conflict with Administration priorities and may have harmed American interests. This rescission proposal aligns with this Administration's efforts to eliminate wasteful foreign assistance programs. Further, this proposal aligns with Executive Order 14217, “Commencing the Reduction of the Federal Bureaucracy,” which directs that the non-statutory components and functions of USIP shall be eliminated to the maximum extent consistent with applicable law, and that USIP reduce the performance of their statutory functions and associated personnel to the minimum presence and function required by law. This best serves the American taxpayer.

Rescission proposal no. R25-21

Agency: CORPORATION FOR PUBLIC BROADCASTING

Account: Corporation for Public Broadcasting (020-0151 2026/2026)

Amount proposed for rescission: $535,000,000

Justification:

This proposal would rescind $535 million, the full amount appropriated in FY 2024 for the Corporation for Public Broadcasting (CPB) in advance for FY 2026. CPB's base appropriation is disbursed to public radio and public television systems in accordance with a statutory formula outlined in the Public Broadcasting Act of 1967, as amended. These funds would be used to subsidize a public media system that is politically biased and an unnecessary expense to the taxpayer. Enacting the rescission would eliminate Federal funding for CPB.

Rescission proposal no. R25-22

Agency: CORPORATION FOR PUBLIC BROADCASTING

Account: Corporation for Public Broadcasting (020-0151 2027/2027)

Amount proposed for rescission: $535,000,000

Justification:

This proposal would rescind $535 million, the full amount appropriated in FY 2025 for the Corporation for Public Broadcasting (CPB) in advance for FY 2027. CPB's base appropriation is disbursed to the public radio and public television systems in accordance with a statutory formula outlined in the Public Broadcasting Act of 1967, as amended. These funds would be used to subsidize a public media system that is politically biased and an unnecessary expense to the taxpayer. Enacting the rescission would eliminate Federal funding for CPB.

[FR Doc. 2025-10377 Filed 6-6-25; 8:45 am]

BILLING CODE 3110-01-P